DEPARTMENT OF TRANSPORTATION

Federal Aviation Administration

14 CFR Part 71

[Docket No. FAA-2020-0667; Airspace Docket No. 20-AGL-24]

RIN 2120-AA66

Amendment of Multiple Air Traffic Service (ATS) Routes in the Northcentral United States

AGENCY: Federal Aviation Administration (FAA), DOT.

ACTION: Final rule.

SUMMARY: This action amends VHF Omnidirectional Range (VOR) Federal airways V-15, V-26, V-55, V-78, V-100, V-159, V-175, V-219, and V-307, and Area Navigation (RNAV) routes T-285 and T-354 in the Northcentral United States. The modifications are necessary due to the planned decommissioning of the VOR portion of the Park Rapids, MN, VOR/Distance Measuring Equipment (VOR/DME); Sioux City, IA, VOR/Tactical Air Navigation (VORTAC); and Huron, SD, VORTAC navigation aids (NAVAIDs). The NAVAIDs provide navigation guidance for segments of the affected air traffic service (ATS) routes. The VORs are being decommissioned as part of the FAA's VOR Minimum Operational Network (MON) program.

DATES: Effective date 0901 UTC, February 25, 2021. The Director of the Federal Register approves this incorporation by reference action under Title 1 Code of Federal Regulations part 51, subject to the annual revision of FAA Order 7400.11 and publication of conforming amendments.

ADDRESSES: FAA Order 7400.11E, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the National Airspace System.

History

The FAA published a notice of proposed rulemaking (NPRM) for Docket No. FAA-2020-0667 in the Federal Register (85 FR 47317; August 5, 2020), amending VOR Federal airways V-15, V-26, V-55, V-78, V-100, V-159, V-175, V-219, and V-307, and RNAV routes T-285 and T-354 in the Northcentral United States. The proposed amendment actions were due to the planned decommissioning of the VOR portion of the Park Rapids, MN, VOR/DME; Sioux City, IA, VORTAC; and Huron, SD, VORTAC NAVAIDs. Interested parties were invited to participate in this rulemaking effort by submitting written comments on the proposal. No comments were received.

Subsequent to the NPRM, the FAA published a rule for Docket No. FAA-2020-0189 in the Federal Register (85 FR 50777; August 18, 2020), amending VOR Federal airway V-55 by removing the airway segment between the Pullman, MI, VOR/DME and the intersection of the Green Bay, WI, VORTAC 270° and Oshkosh, WI, VORTAC 339° radials (BIPID fix). That airway amendment, effective November 5, 2020, is included in this rule.

Additionally, subsequent to the NPRM, the FAA published a rule for Docket No. FAA-2020-0294 in the Federal Register (85 FR 51324; August 20, 2020), amending RNAV route T-354 by replacing the Siren DME route point with the SSKYY, WI, waypoint and extending the route southeastward from the SSKYY, WI, waypoint to the Cunningham, KY, VOR/DME. Those route amendments, effective November 5, 2020, are also included in this rule.

VOR Federal airways are published in paragraph 6010(a) and RNAV T-routes are published in paragraph 6011 of FAA Order 7400.11E dated July 21, 2020, and effective September 15, 2020, which is incorporated by reference in 14 CFR 71.1. The VOR Federal airways listed in this document will be subsequently published in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Rule

The FAA is amending Title 14 Code of Federal Regulations (14 CFR) part 71 by modifying VOR Federal airways V-15, V-26, V-55, V-78, V-100, V-159, V-175, V-219, and V-307, and RNAV routes T-285 and T-354. The planned decommissioning of the VOR portion of the Park Rapids, MN, VOR/DME; Sioux City, IA, VORTAC; and Huron, SD, VORTAC NAVAIDs has made this action necessary. The VOR Federal airway changes are outlined below.

V-15: V-15 extends between the Navasota, TX, VOR/DME and the Bonham, TX, VORTAC; between the Okmulgee, OK, VOR/DME and the Neosho, MO, VOR/DME; and between the Sioux City, IA, VORTAC and the Minot, ND, VOR/DME. The airway segment overlying the Sioux City, IA, and Huron, SD, VORTACs between the Sioux City, IA, VORTAC and the Aberdeen, SD, VOR/DME is removed. The unaffected portions of the existing airway remain as charted.

V-26: V-26 extends between the Blue Mesa, CO, VOR/DME and the White Cloud, MI, VOR/DME. The airway segment overlying the Huron, SD, VORTAC between the Pierre, SD, VORTAC and the Redwood Falls, MN, VOR/DME is removed. The unaffected portions of the existing airway remain as charted.

V-55: V-55 currently extends between the Dayton, OH, VOR/DME and the Pullman, MI, VOR/DME; and between the Park Rapids, MN, VOR/DME and the Bismarck, ND, VOR/DME. The airway segment overlying the Park Rapids, MN, VOR/DME between the Park Rapids, MN, VOR/DME and the Grand Forks, ND, VOR/DME is removed. The unaffected portions of the existing airway remain as charted.

V-78: V-78 extends between the Huron, SD, VORTAC and the Escanaba, MI, VOR/DME; and between the Pellston, MI, VORTAC and the Saginaw, MI, VOR/DME. The airway segment overlying the Huron, SD, VORTAC between the Huron, SD, VORTAC and the Watertown, SD, VORTAC is removed. The unaffected portions of the existing airway remain as charted.

V-100: V-100 extends between the Medicine Bow, WY, VOR/DME and the Litchfield, MI, VOR/DME. The airway segment overlying the Sioux City, IA, VORTAC between the O'Neill, NE, VORTAC and the Fort Dodge, IA, VORTAC is removed. The unaffected portions of the existing airway remain as charted.

V-159: V-159 extends between the Virginia Key, FL, VOR/DME and the Vulcan, AL, VORTAC; and between the Holly Springs, MS, VORTAC and the Huron, SD, VORTAC. The airway segment overlying the Sioux City, IA, and Huron, SD, VORTACs between the Omaha, IA, VORTAC and the Huron, SD, VORTAC is removed. The unaffected portions of the existing airway remain as charted.

V-175: V-175 currently extends between the Malden, MO, VORTAC and the Winnipeg, MB, Canada, VORTAC. The airspace within Canada is excluded. The airway segment overlying the Sioux City, IA, VORTAC between the Des Moines, IA, VORTAC and the Worthington, MN, VOR/DME is removed; and the airway segment overlying the Park Rapids, MN, VOR/DME between the Alexandria, MN, VOR/DME and the Winnipeg, MB, Canada, VORTAC is removed. The exclusion statement for the airspace within Canada is also removed. The unaffected portions of the existing airway remain as charted.

V-219: V-219 extends between the Hayes Center, NE, VORTAC and the Sioux City, IA, VORTAC. The airway segment overlying the Sioux City, IA, VORTAC between the Norfolk, NE, VOR/DME and the Sioux City, IA, VORTAC is removed. The unaffected portions of the existing airway remain as charted.

V-307: V-307 extends between the Harrison, AR, VOR/DME and the Sioux City, IA, VORTAC. The airway segment overlying the Sioux City, IA, VORTAC between the Omaha, IA, VORTAC and the Sioux City, IA, VORTAC is removed. The unaffected portions of the existing airway remain as charted.

The RNAV route changes are outlined below.

T-285: T-285 extends between the North Platte, NE, VOR/DME and the Huron, SD, VORTAC. The Huron, SD (HON), route point is changed from being listed as “VORTAC” to “DME.” The existing RNAV route remains as charted.

T-354: T-354 extends between the Park Rapids, MN, VOR/DME and the Cunningham, KY, VOR/DME. The Park Rapids, MN (PKD), route point is changed from being listed as “VOR/DME” to “DME” and a route segment extending northwestward from the Park Rapids, MN, DME to the BYZIN, ND, waypoint is added. The existing RNAV route remains as charted with the addition of the route segment between the BYZIN, ND, waypoint and the Park Rapids, MN, DME.

All NAVAID radials listed in the VOR Federal airway descriptions below are unchanged and stated in True degrees.

FAA Order 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action of amending VOR Federal airways V-15, V-26, V-55, V-78, V-100, V-159, V-175, V-219, and V-307, and RNAV routes T-285 and T-354, due to the planned decommissioning of the VOR portion of the Park Rapids, MN, VOR/DME; Sioux City, IA, VORTAC; and Huron, SD, VORTAC NAVAIDs, qualifies for categorical exclusion under the National Environmental Policy Act and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 6010(a) Domestic VOR Federal Airways.

* * * * *

V-15 [Amended]

From Navasota, TX; College Station, TX; Waco, TX; Cedar Creek, TX; to Bonham, TX. From Okmulgee, OK; to Neosho, MO. From Aberdeen, SD; Bismarck, ND; to Minot, ND.

* * * * *

V-26 [Amended]

From Blue Mesa, CO; Montrose, CO; 13 miles 112 MSL, 131 MSL, Grand Junction, CO; Meeker, CO; Cherokee, WY; Muddy Mountain, WY; 14 miles, 37 miles 75 MSL, 84 miles 90 MSL, Rapid City, SD; Philip, SD; to Pierre, SD. From Redwood Falls, MN; Farmington, MN; Eau Claire, WI; Wausau, WI; Green Bay, WI; INT Green Bay 116° and White Cloud, MI, 302° radials; to White Cloud.

* * * * *

V-55 [Amended]

From Dayton, OH; Fort Wayne, IN; Goshen, IN; Gipper, MI; Keeler, MI; to Pullman, MI. From Grand Forks, ND; INT Grand Forks 239° and Bismarck, ND, 067° radials; to Bismarck.

* * * * *

V-78 [Amended]

From Watertown, SD; Darwin, MN; Gopher, MN; INT Gopher 091° and Eau Claire, WI, 290° radials; Eau Claire; Rhinelander, WI; Iron Mountain, MI; to Escanaba, MI. From Pellston, MI; Alpena, MI; INT Alpena 232° and Saginaw, MI, 353° radials; to Saginaw.

* * * * *

V-100 [Amended]

From Medicine Bow, WY; Scottsbluff, NE; Alliance, NE; Ainsworth, NE; to O'Neill, NE. From Fort Dodge, IA; Waterloo, IA; Dubuque, IA; Rockford, IL; INT Rockford 074° and Janesville, WI, 112° radials; INT Janesville 112° and Northbrook, IL, 291° radials; Northbrook; INT Northbrook 095° and Keeler, MI, 271° radials; Keeler; to Litchfield, MI.

* * * * *

V-159 [Amended]

From Virginia Key, FL; INT Virginia Key 344° and Treasure, FL, 178° radials; Treasure; INT Treasure 318° and Orlando, FL, 140° radials; Orlando; Ocala, FL; Cross City, FL; Greenville, FL; Pecan, GA; Eufaula, AL; Tuskegee, AL; to Vulcan, AL. From Holly Springs, MS; Gilmore, AR; Walnut Ridge, AR; Dogwood, MO; Springfield, MO; Napoleon, MO; INT Napoleon 005° and St. Joseph, MO, 122° radials; St. Joseph; to Omaha, IA.

* * * * *

V-175 [Amended]

From Malden, MO; Vichy, MO; Hallsville, MO; Macon, MO; Kirksville, MO; to Des Moines, IA. From Worthington, MN; Redwood Falls, MN; to Alexandria, MN.

* * * * *

V-219 [Amended]

From Hayes Center, NE; INT Hayes Center 059° and Wolbach, NE, 251° radials; Wolbach; to Norfolk, NE.

* * * * *

V-307 [Amended]

From Harrison, AR; Neosho, MO; Oswego, KS; Chanute, KS; Emporia, KS; INT Emporia 336° and Pawnee City, NE, 194° radials; Pawnee City; to Omaha, IA.

* * * * *

6011 United States Area Navigation Routes.

* * * * *

T-285 North Platte, NE (LBF) to Huron, SD (HON) [Amended]
North Platte, NE (LBF) | VOR/DME | (Lat. 41°02′55.34″ N, long. 100°44′49.55″ W)
Thedford, NE (TDD) | VOR/DM | (Lat. 41°58′53.99″ N, long. 100°43′08.55″ W)
MARSS, NE | Fix | (Lat. 42°27′48.92″ N, long. 100°36′15.32″ W)
Valentine, NE (VTN) | NDB | (Lat. 42°51′41.85″ N, long. 100°32′58.73″ W)
LKOTA, SD | WP | (Lat. 43°15′28.00″ N, long. 100°03′14.00″ W)
LESNR, SD | WP | (Lat. 43°29′16.06″ N, long. 099°45′41.55″ W)
Huron, SD (HON) | DME | (Lat. 44°26′24.30″ N, long. 098°18′39.89″ W)
* * * * * * *
T-354 BYZIN, MN to Cunningham, KY (CNG) [Amended]
BYZIN, MN | WP | (lat. 47°29′03.97″ N, long. 096°13′28.09″ W)
Park Rapids, MN (PKD) | DME | (Lat. 46°53′53.34″ N, long. 095°04′15.21″ W)
BRNRD, MN | WP | (Lat. 46°20′53.81″ N, long. 094°01′33.54″ W)
SSKYY, WI | WP | (Lat. 45°49′13.60″ N, long. 092°22′28.26″ W)
TONOC, WI | FIX | (Lat. 45°03′47.56″ N, long. 091°38′11.87″ W)
KOETZ, WI | WP | (Lat. 44°13′15.00″ N, long. 091°28′14.00″ W)
HRMNN, WI | WP | (Lat. 43°55′32.51″ N, long. 090°58′04.07″ W)
FOMAG, WI | WP | (Lat. 43°29′38.44″ N, long. 089°46′09.53″ W)
MAYSE, WI | WP | (Lat. 43°10′14.18″ N, long. 089°42′46.52″ W)
HOMRC, IL | WP | (Lat. 41°34′04.67″ N, long. 089°30′20.55″ W)
CPTON, IL | WP | (Lat. 41°06′51.57″ N, long. 089°11′58.93″ W)
BLLUE, IL | WP | (Lat. 40°07′09.20″ N, long. 088°32′45.48″ W)
BOSTN, IL | WP | (Lat. 39°53′46.57″ N, long. 088°26′18.96″ W)
Bible Grove, IL (BIB) | VORTAC | (Lat. 38°55′13.24″ N, long. 088°28′54.50″ W)
Cunningham, KY (CNG) | VOR/DME | (Lat. 37°00′30.99″ N, long. 088°50′12.89″ W)

* * * * *

Issued in Washington, DC, on December 3, 2020.
George Gonzalez,
Acting Manager, Rules and Regulations Group.

[FR Doc. 2020-26919 Filed 12-9-20; 8:45 am]

BILLING CODE 4910-13-P